FEDERAL ELECTION COMMISSION

Sunshine Act Meetings

AGENCY: Federal Election Commission

DATE and TIME: Thursday, September 15, 2016 at 10:00 a.m.

PLACE: 999 E Street NW., Washington, DC (Ninth Floor).

STATUS: This meeting will be open to the public.

FEDERAL REGISTER NOTICE OF PREVIOUS ANNOUNCEMENT: 81 FR 62889.

THE FOLLOWING ITEMS WERE ALSO DISCUSSED:

Promoting Voluntary Compliance

Proposed Statement of Policy on the Application of the Foreign National Prohibition to Domestic Corporations Owned or Controlled by Foreign Nationals

Statement of Vice Chairman Steven T. Walther Regarding Proposal to Rescind Advisory Opinion 2006-15 (TransCanada) and to Open a Rulemaking to Ensure that U.S. Political Spending is Free from Foreign Influence

PERSON TO CONTACT FOR INFORMATION: Judith Ingram, Press Officer, Telephone: (202) 694-1220.

Shawn Woodhead Werth,
Secretary and Clerk of the Commission.

[FR Doc. 2016-22716 Filed 9-16-16; 11:15 am]

BILLING CODE 6715-01-P